DEPARTMENT OF TRANSPORTATION

Federal Aviation Administration

Meeting: RTCA Program Management Committee

AGENCY: Federal Aviation Administration (FAA), U.S. Department of Transportation (DOT).

ACTION: Notice of RTCA Program Management Committee Meeting.

SUMMARY: The FAA is issuing this notice to advise the public of a meeting of RTCA Program Management Committee.

DATES: The meeting will be held July 25, 2013, from 9:00 a.m.-1:00 p.m.

ADDRESSES: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a Program Management Committee meeting. The agenda will include the following:

July 25, 2013

• Welcome and Introductions.

• Review/Approve Meeting Summary.

• June 19, 2013, RTCA Paper no. 137-13/PMC-1106.

• Action Item Review.

• SC-214—Standards for Air Traffic Data Communication Services—Discussion-Review/Approve Terms of Reference Revision 5—RTCA Paper No. 134-13/PMC-1103.

• Include 4D trajectory with dynamic RNP, fixed radius transitions, advanced interval management, and transmission of ATC winds into the operational capabilities of the message set for Baseline 2.

• Extend the completion dates from January 2014 to March 2015 for Baseline 2—Interoperability Standards.

• Other Business.

• Schedule for Committee Deliverables and Next Meeting Date.

• Adjourn.

Attendance is open to the interested public but limited to space availability. With the approval of the chairman, members of the public may present oral statements at the meeting.

Persons wishing to present statements or obtain information should contact the person listed in the FOR FURTHER INFORMATION CONTACT section. Members of the public may present a written statement to the committee at any time.

Issued in Washington, DC, on June 28, 2013.
Paige Williams,
Management Analyst, NextGen, Business Operations Group, Federal Aviation Administration.

[FR Doc. 2013-16464 Filed 7-8-13; 8:45 am]

BILLING CODE 4910-13-P